DEPARTMENT OF TRANSPORTATION

Federal Aviation Administration

14 CFR Part 71

[Docket No. FAA-2008-027; Airspace Docket No. 08-ASW-3]

Establishment of Class E5 Airspace; Eagle Pass, TX

AGENCY: Federal Aviation Administration (FAA), DOT.

ACTION: Direct final rule; request for comments; correction.

SUMMARY: This action corrects a direct final rule published in the Federal Register January 22, 2008 (73 FR 3625), Airspace Docket No. 08-ASW-3, FAA Docket No. FAA-2008-027. In that rule, an error was made in the geographic coordinates of the legal description for Maverick County Memorial International. This action also deletes that portion of the legal description referencing Notice to Airmen effective date and times.

DATES: Effective Dates: 0901 UTC April 10, 2008. The Director of the Federal Register approves this incorporation by reference action under Title 1, Code of Federal Regulations, part 51, subject to the annual revision of FAA Order 7400.9 and publication of conforming amendments.

FOR FURTHER INFORMATION CONTACT: Joe Yadouga, Central Service Center, System Support Group, Federal Aviation Administration, Southwest Region, Ft. Worth, Texas 76193-0530; telephone (817) 222-5597.

SUPPLEMENTARY INFORMATION:

History

On January 22, 2008, a direct final rule for Airspace Docket No. 08-ASW-3, FAA Docket No. FAA-2008-027, was published in the Federal Register (73 FR 3625), establishing Class E airspace at Maverick County Memorial International Airport, Eagle Pass, TX. The geographic coordinates of the legal description for the airport were incorrect. The coordinates should read lat. 28°51′26″ N., long. 100°30′48″ W. This action corrects that error, and also removes the sentences referencing Notice to Airmen effective date and times.

Correction to Direct Final Rule

Accordingly, pursuant to the authority delegated to me, the legal description, as published in the Federal Register January 22, 2008 (73 FR 3625), Airspace Docket No. 08-ASW-3, FAA Docket No. FAA-2008-027, and incorporated by reference in 14 CFR 71.1, is corrected as follows:

§71.1 Amended

On page 3626, column 3, line 25, correct the geographic coordinates for Maverick County Memorial International Airport to read:

ASW TX CLASS E5 Eagle Pass, TX [Corrected]

Maverick County Memorial International Airport

(Lat. 28°51′26″ N., long. 100°30′48″ W.)

That airspace extending upward from 700 feet above the surface within a 6.5-mile radius of Maverick County Memorial International Airport to exclude the international boundaries of Mexican airspace.

Issued in Fort Worth, TX, on February 8, 2008.
Donald R. Smith,
Manager, System Support Group, ATO Central Service Center.

[FR Doc. 08-733 Filed 2-20-08; 8:45 am]

BILLING CODE 4910-13-M